DEPARTMENT OF DEFENSE

Department of the Army

Preparation of Environmental Impact Statement for Expansion of Range Projects Within U.S. Army Training Lands in Alaska

AGENCY: Department of the Army, DoD.

ACTION: Notice of intent.

SUMMARY: The Army intends to prepare an Environmental Impact Statement (EIS) to assess the potential environmental impacts associated with the proposed expansion of training ranges within U.S. Army training lands in Alaska. The proposed federal action to be addressed in this EIS involves the construction and operation of a Battle Area Complex (BAX) and a Combined Arms Collective Training Facility (CACTF), and the execution of routine, joint military training at these locations. The purpose of the proposed project is to provide year-round, fully automated, multi-purpose, and realistic training facilities for U.S. Army Alaska and other units. The EIS will analyze the proposed action's impacts upon Alaska's natural and man-made environments.

DATES: Written comments identifying potential impacts to be analyzed in the EIS must be received not later than July 1, 2004.

ADDRESSES: Written comments should be forwarded to Mr. Kevin Gardner, Directorate of Public Works, 730 Quartermaster Road, Attn: APVR-RPW-GS (GARDNER), Fort Richardson, AK 99505-6500; fax: (907) 384-3047; e-mail: kevin.gardner@us.army.mil.

FOR FURTHER INFORMATION CONTACT: Major Dan Hunter, Public Affairs Office, 600 Richardson Drive #5600, Attn: APVR-RPV-O (HUNTER), Fort Richardson, AK 99505-5600; telephone: (907) 384-3306, fax: (907) 384-2060; or at Fort Wainwright, AK; telephone: (907) 353-6701; e-mail: robert.hunter@richardson.army.mil.

SUPPLEMENTARY INFORMATION: The proposed action would result in the construction and operation of ranges and support facilities designed to meet the objectives of established training doctrine. The design of the proposed projects will accommodate training requirements on ranges designed in accordance with the standards set out in Department of Army Training Circular (TC) 25-8, which include the following:

• Provide multi-echelon training—Support training in a combined arms, task organized element to allow joint training opportunities across the full spectrum of warfare.

• Support battle focused training—Allow units to train:

—As a Joint Combined Arms Team;

—For combat proficiency—realistic conditions and performance oriented;

—To standard;

—To adapt;

—To maintain and sustain training readiness levels;

—Using multi-echelon techniques;

—To sustain proficiency;

—To develop leadership.

• Provide mounted and dismounted training opportunities—Afford the opportunity to train in both mounted (in tactical vehicles) and dismounted (on foot) operations.

• Maximizing training efficiencies and synergies—Close siting of individual ranges to allow for simultaneous or independent collective training events on both facilities.

• Realistic training—These facilities can be used either independently or in a combined scenario. These facilities enable combat teams to train in rural (BAX) or urban (CACTF) settings either independently, combined, or in transition from one to the other.

In addition to consideration of a No Action Alternative (maintain existing range infrastructure), several U.S. Army Alaska training areas will be considered as possible alternate locations for the range expansion projects. These include: (1) Black Rapids; (2) Donnelly Drop Zone; (3) Eddy Drop Zone; (4) Fort Richardson; (5) Gerstle River; (6) North Texas Range; (7) Tanana Flats Training Area; (8) West Donnelly Training Area; (9) Yukon Training Area.

Tribes, Federal, state, and local agencies and the public are invited to participate in the scoping process for the preparation of this EIS. Scoping meetings will be held in Fairbanks and Delta Junction, Alaska. The scoping process will help identify possible alternatives, potential environmental impacts, and key issues of concern to be analyzed in the EIS. Notification of the times and locations for the scoping meetings will be published in local newspapers.

James L. Campbell,
Lieutenant General, U.S. Army, Commanding General.

[FR Doc. 04-12250 Filed 5-28-04; 8:45 am]

BILLING CODE 3710-08-M